Title 3—

The President

Memorandum of November 28, 2022

Promoting Accountability for Conflict-Related Sexual Violence

Memorandum for the Heads of Executive Departments and Agencies

By the authority vested in me as President by the Constitution and the laws of the United States of America, and in order to enhance United States policy and approach to prevent and respond to conflict-related sexual violence worldwide, it is hereby ordered as follows:

Section 1. Policy. Conflict-related sexual violence (CRSV) has devastating effects on individuals and communities, undermines peace and security, and prevents inclusive and sustainable development. Yet wherever conflicts or crises occur, sexual violence continues to be wielded as a tool or is a byproduct of armed conflict. Impunity for CRSV remains widespread, with accountability and justice the rare exception. For each rape reported in connection with a conflict, the United Nations estimates that 10 to 20 cases go undocumented, in part due to the impunity of perpetrators. Among the best ways to prevent CRSV worldwide are to advance global gender equity and equality and change harmful societal gender norms; prioritize prevention measures and locally-driven responses to all forms of gender-based violence, including through respect for human rights and international humanitarian law and equal protection under the law; and address impunity related to these brutal, yet often unreported, acts.

The United States does not accept CRSV as an inevitable cost of armed conflict and is committed to supporting survivors of this scourge by invoking all tools available, including legal, policy, diplomatic, and financial tools, to deter such violence, break the vicious cycle of impunity, and provide the necessary services to survivors. The United States has numerous frameworks, including laws and policies, through which to respond to and address CRSV, but more action is required to use them fully and in a manner that responds to the full scale of this problem. These efforts to address impunity and increase accountability for CRSV will complement a broader, holistic approach to preventing and responding to this scourge, which includes advancing gender equity and equality; prioritizing the immediate needs of survivors; and amplifying survivor voices in transitional justice, the provision of services, and peace and political processes.

It is the policy of the United States to fully exercise existing authorities to impose economic sanctions and implement visa restrictions in order to promote justice and accountability for acts of CRSV; devote the necessary resources to ensure regular coordination and reporting on CRSV incidents and to conduct training on CRSV issues more broadly, including to support the designation of sanctions targets; strengthen the implementation of other existing tools and authorities to promote accountability for CRSV, including the provision of United States security assistance; and broaden engagement with foreign partner governments to encourage the establishment and use of their own tools to promote justice and accountability.

Sec. 2. Advancing Accountability for Acts of CRSV through Existing Sanctions Authorities. (a) Executive Order 13818 of December 20, 2017 (Blocking the Property of Persons Involved in Serious Human Rights Abuse or Corruption), builds on and implements the Global Magnitsky Human Rights Accountability Act, Public Law 114-328 (the “Act”), and authorizes the imposition of sanctions on persons, including both individuals and entities, responsible for or complicit in, or who have directly or indirectly engaged in, serious human rights abuse, as well as individuals who are or have been leaders or officials of an entity, including any government entity, that has engaged in, or which has members who have engaged in, serious human rights abuses relating to their tenure, among other things. It is the policy of the United States that an act of CRSV, committed by either state or non-state actors, may constitute a “serious human rights abuse” for purposes of designation under Executive Order 13818, as well as other similar authorities, and in furtherance of the policy reflected in the Act.

(b) In addition to the authorities described in subsection (a) of this section, many country-specific sanctions programs also contain criteria for the imposition of sanctions on persons engaged in or otherwise connected to activities that may include CRSV. For example, numerous sanctions programs, including country-specific programs related to Belarus, Burma, the Central African Republic, the Democratic Republic of the Congo, Iran, Libya, Mali, Nicaragua, Somalia, North Korea, the Russian Federation, South Sudan, Syria, Venezuela, the Western Balkans, and Zimbabwe, include criteria for targeting certain abuses or violations of human rights, which may include CRSV depending on specific facts and circumstances. It is the policy of the United States to promote accountability for perpetrators of acts of CRSV through relevant existing sanctions authorities, where applicable, and to ensure that these authorities are used to the fullest extent possible to target perpetrators of acts of CRSV and their enablers.

(c) I hereby direct the Secretary of State, the Secretary of the Treasury, the Attorney General, and the Director of National Intelligence to undertake the following actions, including by issuing guidance or regulations as appropriate:

(i) ensure equal consideration of and attention to acts of CRSV as the conduct supporting designation when identifying appropriate targets and compiling information necessary for the preparation of sanctions packages under applicable authorities, including those identified in this section; and

(ii) strengthen the capacity of executive departments and agencies (agencies) to collect, identify, assess, and share information on CRSV as appropriate, including by consulting with local civil society organizations, taking into account the importance of safely gathering information from survivors to support potential designations under existing sanctions authorities.

Sec. 3. Advancing Accountability for Acts of CRSV Through Additional Measures and Authorities. The United States is committed to using all available tools, including those pertaining to security assistance and visa eligibility, to prevent and respond to CRSV and promote accountability for perpetrators. Heads of agencies, including the Secretary of State and the Secretary of the Treasury, are directed to use existing authorities to the fullest extent possible to promote accountability for acts of CRSV, including considering acts of CRSV when assessing the potential application of existing laws and regulations, including, where appropriate, the laws known as the “Leahy Laws” (22 U.S.C. 2378d and 10 U.S.C. 362) and sections 7031(c) and 7048(g) of the Department of State, Foreign Operations, and Related Programs Appropriations Act, 2022 (Div. K, Public Law 117-103, as carried forward by the Continuing Appropriations Act, 2023 (Div. A, Public Law 117-180)), as well as similar provisions in future acts.

Sec. 4. Building Coalitions of Like-Minded Nations and Engaging International Organizations in Promoting Accountability for Acts of CRSV. Bilateral relationships with allies and partners, as well as engagement in multilateral fora and our relationships with international organizations, are critical to promote justice and accountability for acts of CRSV and bring global attention to this issue. Agencies engaged abroad shall reinforce the work they have done and amplify efforts with other nations—bilaterally and within multilateral fora—and with international organizations to broaden the number of countries willing to support accountability for acts of CRSV and to strengthen policies and locally-driven programming in multilateral institutions, including efforts to address the immediate and long-term needs of survivors, to promote accountability and justice for acts of CRSV.

Sec. 5. Definition. For the purposes of this memorandum, the term “conflict-related sexual violence” (CRSV) refers to incidents or patterns of sexual violence that occur in conflict or post-conflict situations with a direct or indirect link to conflict. CRSV may include rape, sexual slavery, sex trafficking, forced pregnancy, forced sterilization, and any other form of sexual violence of comparable gravity, against individuals of all gender identities. Depending on the circumstances, acts of CRSV can constitute war crimes, crimes against humanity, or acts of genocide, and therefore may constitute crimes that are punishable under international law.

Sec. 6. General Provisions. (a) Nothing in this memorandum shall be construed to impair or otherwise affect:

(i) the authority granted by law to an executive department or agency, or the head thereof; or

(ii) the functions of the Director of the Office of Management and Budget relating to budgetary, administrative, or legislative proposals.

(b) This memorandum shall be implemented consistent with applicable law and subject to the availability of appropriations.

(c) This memorandum is not intended to, and does not, create any right or benefit, substantive or procedural, enforceable at law or in equity by any party against the United States, its departments, agencies, or entities, its officers, employees, or agents, or any other person.

(d) The Secretary of State is authorized and directed to publish this memorandum in the Federal Register.

THE WHITE HOUSE,

Washington, November 28, 2022

[FR Doc. 2022-26604

Filed 12-5-22; 8:45 am]

Billing code 4710-10-P